DEPARTMENT OF TRANSPORTATION

Federal Aviation Administration

14 CFR Part 71

[Airspace Docket No. 00-AWA-1]

RIN 2120-AA66

Revision of the Legal Description of the Houston Class B Airspace Area; TX

AGENCY: Federal Aviation Administration (FAA), DOT.

ACTION: Final rule.

SUMMARY: This action amends the legal description of the Houston, TX, Class B Airspace Area. Specifically, this rule revises the description of the southern portion of the Houston Class B Airspace Area by eliminating references to the Hobby Very High Frequency Omnidirectional Range/Distance Measuring Equipment (VOR/DME) as the point of origin. The new point of origin will be the current geographical location of the Hobby VOR/DME. The FAA is taking this action due to the planned relocation of the Hobby VOR/DME. This action does not change the actual dimensions, configuration, or operating requirements of the Houston Class B Airspace Area.

EFFECTIVE DATE: 0901 UTC, June 15, 2000.

FOR FURTHER INFORMATION CONTACT: Bil Nelson, Airspace and Rules Division, ATA-400, Office of Air Traffic Airspace Management, Federal Aviation Administration, 800 Independence Avenue, SW, Washington, DC 20591; telephone: (202) 267-8783.

SUPPLEMENTARY INFORMATION:

Background

Due to construction on the William P. Hobby Airport property occurring in close proximity to the Hobby VOR/DME, the FAA will relocate the VORTAC approximately 2,000 feet to the east of its current location. This relocation of the Hobby VOR/DME will effect the current legal description of the Houston Class B airspace area. Specifically, the description of the southern portion of the Houston Class B Airspace area uses the Hobby VOR/DME as a reference. To assist general aviation in identifying the southern boundaries of the Houston Class B airspace area, the FAA will publish on the Houston Visual Flight Rules Terminal Area Chart geographical coordinates along with bearings/fix/distance information.

The Rule

This action amends the legal description of the Houston, TX, Class B Airspace Area. Specifically, this rule revises the description of the southern portion of the Houston Class B Airspace Area by eliminating references to the Hobby Very High Frequency Omnidirectional Range/Distance Measuring Equipment (VOR/DME) as the point of origin. As a result the FAA is establishing the point of origin for the southern portion of the Houston Class B airspace area, from the current geographical location of the Hobby VOR/DME. This action does not change the actual dimensions, configuration, or operating requirements of the Houston Class B Airspace Area.

Since this action merely involves a change in the legal description of the Houston Class B airspace area, and does not involve a change in the dimensions or operating requirements of that airspace, notice and public procedure under 5 U.S.C. 553(b) are unnecessary.

Class B airspace areas are published in paragraph 3000 of FAA Order 7400.9G, dated September 1, 1999, and effective September 16, 1999, which is incorporated by reference in 14 CFR 71.1. The Class B airspace area listed in this document will be published subsequently in the Order.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—[AMENDED]

1. The authority citation for part 71 continues to read as follows:

Authority: 49 U.S.C. 106(g), 40103, 40113, 40120; E.O. 10854, 24 FR 9565, 3 CFR, 1959-1963 Comp., p. 389; 14 CFR 11.69.

§ 71.1 [Amended]

2. The incorporation by reference in 14 CFR 71.1 of the Federal Aviation Administration Order 7400.9G, Airspace Designations and Reporting Points, dated September 1, 1999, and effective September 16, 1999, is amended as follows:

Paragraph 3000 Subpart B—Class B Airspace

* * * * *

ASW TX B Houston, TX (Revised)

George Bush Intercontinental Airport (IAH) (Primary Airport)

(Lat. 29°58′50″ N., long. 95°20′23″ W.)

William P. Hobby Airport (HOU) (Secondary Airport)

(Lat. 29°38′44″ N., long. 95°16′44″ W.)

Ellington Field

(Lat. 29°36′27″ N., long. 95°09′32″ W.)

Humble VORTAC (IAH)

(Lat. 29°57′25″ N., long. 95°20′45″ W.)

Point of Origin

(Lat 29°39′01″ N., long. 95°16′45″ W.)

Boundaries

Area A. That airspace extending upward from the surface to and including 10,000 feet MSL bounded by a line beginning at the intersection of the Humble VORTAC 8-mile DME arc and the 090° radial; thence clockwise along the Humble VORTAC 8-mile DME arc to the Humble VORTAC 069° radial; thence east along the Humble VORTAC 069° radial to the 10-mile arc of the Humble VORTAC; thence clockwise along the 10-mile arc to the Humble VORTAC 090° radial; thence west to the point of beginning; and that airspace bounded by a line beginning at lat. 29°45′37″ N., long. 95°21′58″ W.; to lat. 29°45′46″ N., long. 95°11′47″ W.; thence clockwise along the 8-mile arc from the Point of Origin to intercept the 056° bearing from the Point of Origin; thence southwest along the 056° bearing to the 5.1-mile fix from the Point of Origin, thence direct to the Point of Origin 131° bearing/5.8-mile fix from the Point of Origin; thence southeast along the 131° bearing from the Point of Origin to intercept the 7-mile arc from the Point of Origin; thence clockwise on the 7-mile arc to the 156° bearing from the Point of Origin; thence north along the 156° bearing to the 6-mile fix from the Point of Origin; thence clockwise along the 6-mile arc to the 211° bearing from the Point of Origin; thence south along the 211° bearing from the Point of Origin to the 8-mile arc from the Point of Origin; thence clockwise to the point of beginning.

Area B. That airspace extending upward from 2,000 feet MSL to and including 10,000 feet MSL bounded by a line beginning at the intersection of State Highway 59 (SH 59) and the 15-mile arc from the Point of Origin; thence counterclockwise along the 15-mile arc to State Road 6 (SR 6); thence southeast along SR 6 to the intersection of SR 6 and Farm Road 521 (FR 521); thence south along FR 521 to the intersection of FR 521 and the 15-mile arc from the Point of Origin; thence counterclockwise along the 15-mile arc to the 211° bearing from the Point of Origin; thence northeast along the 211° bearing to the 10-mile arc from the Point of Origin; thence east along the 10-mile arc to the 156° bearing from the Point of Origin; thence southeast along the 156° bearing to the 15-mile arc from the Point of Origin; thence counterclockwise on the 15-mile arc to the intersection of the 15-mile arc and the Humble VORTAC 15-mile arc; thence counterclockwise along the Humble VORTAC 15-mile arc to the intersection of the 15-mile arc and Westheimer Road lat. 29°44′07″ N., long. 95°28′47″ W.; thence southwest to and along SH 59 to the point of beginning, excluding Area A.

Area C. That airspace extending upward from 3,000 feet MSL to and including 10,000 feet MSL bounded by a line beginning at the intersection of SH 59 and the Humble VORTAC 20-mile DME arc; thence clockwise along the Humble VORTAC 20-mile DME arc to the intersection of the Humble VORTAC 20-mile DME arc and Interstate 10 (I-10), west on I-10 to the 15-mile arc from the Point of Origin; thence counterclockwise along the 15-mile arc to the Humble VORTAC 15-mile DME arc; thence counterclockwise along the Humble VORTAC 15-mile DME arc to the intersection of the Humble VORTAC 15-mile DME arc and Westheimer Road; thence southwest to and along SH 59 to the point of beginning; and that airspace beginning at the intersection of the 15-mile arc and the 156° bearing from the Point of Origin; thence north along the 156° bearing to the 10-mile arc from the Point of Origin clockwise along the 10-mile arc to the 211° bearing from the Point of Origin; thence south along the 211° bearing to intersect the 15-mile arc from the Point of Origin to the point of beginning.

Area D. That airspace extending upward from 4,000 feet MSL to and including 10,000 feet MSL bounded by a line beginning at the intersection of SH 59 and the Humble VORTAC 30-mile DME arc; thence clockwise along the Humble VORTAC 30-mile DME arc to the intersection of the Humble VORTAC 30-mile arc and the 20-mile arc from the Point of Origin; thence clockwise along the 20-mile arc to SH 59; thence southwest on SH 59 to the point of beginning, excluding Areas B, C, and E.

Area E. That airspace extending upward from 2,500 feet MSL to and including 10,000 feet MSL bounded by a line beginning at the intersection of the 15-mile arc from the Point of Origin and SR 6; thence southeast along SR 6 to the intersection of SR 6 and FR 521; thence south along FR 521 to the intersection of FR 521 and the 15-mile arc from the Point of Origin; thence counterclockwise along the 15-mile arc from the Point of Origin to the point of the beginning.

* * * * *

Issued in Washington, DC, on April 6, 2000.
Reginald C. Matthews,
Manager, Airspace and Rules Division.

[FR Doc. 00-9145 Filed 4-12-00; 8:45 am]

BILLING CODE 4910-13-P